DEPARTMENT OF AGRICULTURE

Forest Service

Alabama Resource Advisory Committee

AGENCY: Forest Service, USDA.

ACTION: Notice of meeting.

SUMMARY: The Alabama Resource Advisory Committee (RAC) will meet in Montgomery, Alabama. The committee is authorized under the Secure Rural Schools and Community Self-Determination Act (the Act) and operates in compliance with the Federal Advisory Committee Act. The purpose of the committee is to improve collaborative relationships and to provide advice and recommendations to the Forest Service concerning projects and funding consistent with Title II of the Act.

DATES: The meeting will be held Tuesday, February 28, 2017, at 1:00 p.m. to 4:00 p.m.

All RAC meetings are subject to cancellation. For status of meeting prior to attendance, please contact the person listed under For Further Information Contact.

ADDRESSES: The meeting will be held at the USDA Forest Service Supervisor's Office, Downstairs Conference Room, 2946 Chestnut Street, Montgomery, Alabama. If you would like to attend by telephone, please contact the person listed under For Further Information Contact.

Written comments may be submitted as described under Supplementary Information. All comments, including names and addresses when provided, are placed in the record and are available for public inspection and copying. The public may inspect comments received at the USDA Forest Service Supervisor's Office. Please call ahead to facilitate entry into the building.

FOR FURTHER INFORMATION CONTACT: Lisa Kamnikar, RAC Coordinator, by phone at 334-241-8114 or via email at lkamnikar@fs.fed.us; or Tammy Freeman Brown, Designated Federal Officer, by phone 334-241-8144 or via email at tfreemanbrown@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Introduce new RAC Members,

2. Discuss purpose of RAC, operating guidelines and responsiblities;

3. Elect a RAC Chairperson, and

4. Discuss potential projects and processes.

The meeting is open to the public. The agenda will include time for people to make oral statements of three minutes or less. Individuals wishing to make an oral statement should request in writing by close-of business, February 17, 2017, to be scheduled on the agenda. Anyone who would like to bring related matters to the attention of the committee may file written statements with the committee staff before or after the meeting. Written comments and requests for time to make oral comments must be sent to Lisa Kamnikar, Alabama RAC Coordinator, 2946 Chestnut Street Montgomery, Alabama 36107; by email to lkamnikar@fs.fed.us, or via facsimile to 334-241-8111.

Meeting Accommodations: If you are a person requiring reasonable accommodation, please make requests in advance for sign language interpreting, assistive listening devices, or other reasonable accommodation. For access to the facility or proceedings, pleases contact the person listed in the section titled For Further Information Contact. All reasonable accommodation requests are managed on a case by case basis.

Dated: January 13, 2017.
Tammy Freeman Brown,
Designated Federal Officer.

[FR Doc. 2017-01347 Filed 1-19-17; 8:45 am]

BILLING CODE 3411-15-P